PANAMA CANAL COMMISSION

35 CFR Chapter I

Panama Canal Regulations

Vacation of Title

Editorial Note: Under section 121 of Public Law 108-309, the Panama Canal Commission (PCC) and its Office of Transition Administration (OTA) terminated on October 1, 2004. A letter from the General Attorney for the PCC OTA to the Office of the Federal Register has confirmed that PCC regulations should be removed from the Code of Federal Regulations (CFR).

Therefore, the Director of the Federal Register, pursuant to his authority to maintain an orderly system of codification under 44 U.S.C. 1510 and 1 CFR 8.2 hereby removes from the CFR, Title 35, Chapter I consisting of Parts 1 to 299.

Accordingly, Title 35 of the Code of Federal Regulations is hereby vacated.

[FR Doc. 04-55526 Filed 12-8-04; 8:45 am]

BILLING CODE 1505-01-D